DEPARTMENT OF THE INTERIOR

National Park Service

Notice of Availability of Draft Director's Order Concerning National Park Service Policies and Procedures Governing Donations and Fundraising, Director's Order #21

AGENCY: National Park Service, Interior.

ACTION: Notice of availability.

SUMMARY: The National Park Service (NPS) is revising existing policies and procedures that guide its acceptance of donations and its relationships to those who desire to raise private sector support to benefit parks and programs. When adopted, the policies and procedures will apply to all units of the national park system, and will supersede and replace the policies and procedures temporarily re-issued in January, 2005.

DATES: Written comments will be accepted until December 5, 2005.

ADDRESSES: Draft Director's Order #21 is available on the Internet at http://www.nps.gov/policy/DOrders/DO21draft.html. Requests for copies and written comments should be sent to John Piltzecker, NPS Partnership Program Manager, National Partnership Office, 1849 C. St, NW., Mail Stop 2206, Washington, DC 20240 or to the electronic mail address: partnerships@nps.gov.

FOR FURTHER INFORMATION CONTACT: John Piltzecker at (202) 354-2150.

SUPPLEMENTARY INFORMATION: The NPS policies and procedures governing the role of the NPS in accepting donations and authorizing non-profit park support groups to raise funds on behalf of or for the benefit of the National Park System have previously been published in the form of Director's Order 21. That guideline will be superseded by the new Director's Order 21(and a reference guide that will be issued concurrently). The topics included in the draft Director's Order include: Acceptance of donations, recognition provided to donors, authorization of fundraising (including for construction projects), solicitation by employees, cause-related corporate campaigns, and marketing exclusivity granted to Proud Partners of the National Park Foundation.

Individual respondents may request that we withhold their home address from the administrative record, which we will honor to the extent allowable by law. There also may be circumstances in which we would withhold from the record a respondent's identity, as allowable by law. If you wish us to withhold your name and/or address, you must state this prominently at the beginning of your comment.

Dated: September 29, 2005.
Christopher K. Jarvi,
Associate Director, Partnerships, Interpretation and Education, Volunteers, and Outdoor Recreation.

[FR Doc. 05-19962 Filed 10-4-05; 8:45 am]

BILLING CODE 4312-52-P